NUCLEAR REGULATORY COMMISSION

Workshop on Options for Non-LWR Containment Functional Performance

AGENCY: Nuclear Regulatory Commission.

ACTION: Notice of public workshop.

SUMMARY: The Nuclear Regulatory Commission has requested the staff to develop options for containment functional performance requirements and criteria for future non-light water reactors, taking into account design features such as fuel, core, and cooling systems. The options selected will also be used for the development of the new regulatory framework for a risk-informed regulatory structure for advanced reactors.

DATES: January 14, 2004, 8:30 a.m.-5 p.m.

ADDRESSES: Doubletree Hotel; 1750 Rockville Pike; Rockville, MD 20852-1699

FOR FURTHER INFORMATION CONTACT: Shana Browde, Office of Nuclear Regulatory Research, Mail Stop: T-10 F13A, U.S. Nuclear Regulatory Commission, Washington DC 20555-0001, (301) 415-7652, e-mail: srb1@nrc.gov.

SUPPLEMENTARY INFORMATION: This notice serves as initial notification of a public workshop to provide for the exchange of information with all stakeholders regarding the staff's efforts to develop options for containment functional performance requirements and criteria for future non-light water reactors. The meeting will focus on the current work being performed by the NRC staff. A preliminary agenda is attached.

Workshop Meeting Information

The staff intends to conduct a workshop to provide for an exchange of information related to the staff's initial efforts to develop options for containment functional performance requirements and criteria for future non-light water reactors. Persons other than NRC staff and NRC contractors interested in making a presentation at the workshop should notify Shana Browde, Office of Nuclear Regulatory Research, Mail Stop: T-10 F13A, U.S. Nuclear Regulatory Commission, Washington DC 20555-0001, (301) 415-7652, e-mail: srb1@nrc.gov.

Registration

There is no registration fee for the workshop; however, so that adequate space, materials, etc., for the workshop can be arranged, please provide notification of attendance to Shana Browde, Office of Nuclear Regulatory Research, Mail Stop: T-10 F13A, U.S. Nuclear Regulatory Commission, Washington DC 20555-0001, (301) 415-7652, e-mail: srb1@nrc.gov.

Background

The possibility of using alternatives to the traditional “essentially leak-tight” containment structures for non-LWRs has been the subject of Commission policy review, beginning with SECY-93-092, “Issues Pertaining to the Advanced Reactor (PRISM, MHTGR, and PIUS) and CANDU 3 Designs and Their Relationship to Current Regulatory Requirements,” dated April 8, 1993. More recently, in SECY-02-0139, “Plan for Resolving Policy Issues Related to Licensing Non-Light Water Reactor Designs,” dated July 22, 2002 the staff informed the Commission of its plan to develop policy options for the design and safety performance of the containment structure and related systems for non-LWRs.

In SECY-03-0047, “Policy Issues Related to Licensing Non-Light-Water Reactor Designs,” dated March 28, 2003, staff discussed the policy issue of the conditions, if any, that would be acceptable for licensing a plant without a pressure-retaining containment building. In SECY-03-0047, the staff recommended to the Commission that (1) Functional performance requirements be approved for use in establishing the acceptability of either a pressure retaining, low leakage containment or a non-pressure retaining building for future non-LWR reactor designs and, if approved, (2) the staff develop the functional performance requirements using the guidance contained in the July 30, 1993 Commission Staff Requirements Memorandum (SRM) for SECY-93-092 and the Commission's guidance on the other issues in SECY-03-0047. In the June 26, 2003 SRM for SECY-03-0047, the Commission requested the staff to submit options and recommendations to the Commission on functional performance requirements and criteria for the containment of non-LWRs.

Options for containment functional performance requirements and criteria for future non-LWRs are under development by the staff. The final options and recommendations are due in April 2004. To assist in developing and evaluating the options and in identifying the recommended options, the NRC staff is planning to hold a workshop and solicit feedback from the public. Key considerations for discussion include:

• Are the identified containment functions being considered appropriate?

• Are the options for containment performance criteria appropriate?

• Are there other or alternative containment functions and options which should be considered?

• What metrics should be considered in evaluating the options, including specific advantages and disadvantages for the identified options?

Preliminary Workshop Agenda

January 14, 2004

8:30-10:15—NRC Presentation and Discussion on Options for Non-LWR Containment Functional Performance Requirements and Criteria

10:15-10:30—BREAK

10:45-noon—NRC Presentation and Discussion on Options for Non-LWR Containment Functional Performance Requirements and Criteria (continued)

Noon-1—LUNCH

1-2:15—NRC Presentation and Discussion on Options for Non-LWR Containment Functional Performance requirements and Criteria

2:15-2:30—BREAK

2:30-5—General discussion and wrap-up

Dated at Rockville, Maryland, this 11th day of December, 2003.
For the Nuclear Regulatory Commission.
Farouk Eltawila,
Director, Division of Systems Analysis and Regulatory Effectiveness, Office of Nuclear Regulatory Research.

[FR Doc. 03-31210 Filed 12-17-03; 8:45 am]

BILLING CODE 7590-01-P